COMMITTEE FOR PURCHASE FROM PEOPLE WHO ARE BLIND OR SEVERELY DISABLED

Procurement List, Proposed Additions

AGENCY: Committee for Purchase From People Who Are Blind or Severely Disabled.

ACTION: Proposed Additions to Procurement List.

SUMMARY: The Committee is proposing to add to the Procurement List services to be furnished by nonprofit agencies employing persons who are blind or have other severe disabilities.

COMMENTS MUST BE RECEIVED ON OR BEFORE: March 5, 2001.

ADDRESS: Committee for Purchase From People Who Are Blind or Severely Disabled, Jefferson Plaza 2, Suite 10800, 1421 Jefferson Davis Highway, Arlington, Virginia 22202-3259.

FOR FURTHER INFORMATION CONTACT: Louis R. Bartalot (703) 603-7740.

SUPPLEMENTARY INFORMATION:

Additions

This notice is published pursuant to 41 U.S.C. 47(a)(2) and 41 CFR 51-2.3. Its purpose is to provide interested persons an opportunity to submit comments on the possible impact of the proposed actions.

If the Committee approves the proposed additions, all entities of the Federal Government (except as otherwise indicated) will be required to procure the services listed below from nonprofit agencies employing persons who are blind or have other severe disabilities.

I certify that the following action will not have a significant impact on a substantial number of small entities. The major factors considered for this certification were:

1. The action will not result in any additional reporting, recordkeeping or other compliance requirements for small entities other than the small organizations that will furnish the services to the Government.

2. The action will result in authorizing small entities to furnish the services to the Government.

3. There are no known regulatory alternatives which would accomplish the objectives of the Javits-Wagner-O'Day Act (41 U.S.C. 46-48c) in connection with the services proposed for addition to the Procurement List. Comments on this certification are invited. Commenters should identify the statement(s) underlying the certification on which they are providing additional information.

The following services have been proposed for addition to Procurement List for production by the nonprofit agencies listed:

Services

Administrative Services, Internal Revenue Service, Oxon Hill, Maryland, NPA: Melwood Horticultural Training Center, Upper Marlboro, Maryland

Furnishings Management Services, McGuire Air Force Base, New Jersey, NPA: Occupational Training Center of Burlington County, Mt. Holly, New Jersey

Janitorial/Custodial, VA Outpatient Clinic, Allentown, Pennsylvania, NPA: Via of the Lehigh Valley, Inc., Bethlehem, Pennsylvania

Operation of Environmental Remediation Service, Puget Sound Naval Shipyard, Bremerton, Washington, NPA: Skookum Educational Programs, Port Townsend, Washington

Louis R. Bartalot,
Deputy Director (Operations).

[FR Doc. 01-2893 Filed 2-1-01; 8:45 am]

BILLING CODE 6353-01-P